DEPARTMENT OF ENERGY

10 CFR Part 1021

Request for Information Regarding Categorical Exclusions

AGENCY: Department of Energy.

ACTION: Request for information.

SUMMARY: The U.S. Department of Energy (DOE) intends to update its National Environmental Policy Act (NEPA) categorical exclusions, and seeks input from interested parties to help identify activities that should be considered for new or revised categorical exclusions.

DATES: Responses should be e-mailed or postmarked by January 25, 2010. Late responses will be considered to the extent practicable.

ADDRESSES: E-mail submissions are encouraged due to the delivery time required for mail, and should be sent to yardena.mansoor@hq.doe.gov. Alternatively, submissions may be faxed to 202-586-7031 or mailed to Yardena Mansoor; Office of NEPA Policy and Compliance (GC-54); U.S. Department of Energy; 1000 Independence Avenue, SW., Washington, DC 20585.

Additional information on this Request for Information, including what information should be submitted and how to submit responses, may be found at http://www.gc.energy.gov/nepa/.

FOR FURTHER INFORMATION CONTACT: Yardena Mansoor, Office of NEPA Policy and Compliance (GC-54), 202-586-9326, yardena.mansoor@hq.doe.gov.

SUPPLEMENTARY INFORMATION: Categorical exclusions are classes of actions that DOE has by regulation determined do not individually or cumulatively have a significant effect on the human environment and, therefore, normally require neither an environmental impact statement nor an environmental assessment. DOE's categorical exclusions are listed at 10 CFR part 1021, appendices A and B to subpart D.

Issued in Washington, DC on December 23, 2009.
Scott Blake Harris,
General Counsel.

[FR Doc. E9-30829 Filed 12-28-09; 8:45 am]

BILLING CODE 6450-01-P